DEPARTMENT OF HOMELAND SECURITY

Coast Guard

33 CFR Part 117

[Docket No. USCG-2017-0161]

Drawbridge Operation Regulation; Canaveral Barge Canal, Canaveral, FL

AGENCY: Coast Guard, DHS.

ACTION: Notice of deviation from drawbridge regulation.

SUMMARY: The Coast Guard has issued a temporary deviation from the operating schedule that governs the SR 401 Drawbridges, mile 5.5 at Port Canaveral, Florida. The deviation is necessary to reduce vehicular traffic congestion and to ensure the safety of roadways while passengers are transiting to and from the cruise ship terminals. Since the arrival of additional cruise ships to the Port of Canaveral, massive traffic back-ups have been caused by the on demand drawbridge openings. This deviation allows the bridges to not open to navigation during prime cruise ship passenger loading and unloading times on Saturdays and Sundays.

DATES: This deviation is effective without actual notice from December 28, 2017 through January 31, 2018. For the purposes of enforcement, actual notice will be used from December 5, 2017, until December 28, 2017.

ADDRESSES: The docket for this deviation, USCG-2017-0161 is available at http://www.regulations.gov. Type the docket number in the “SEARCH” box and click “SEARCH”. Click on Open Docket Folder on the line associated with this deviation.

FOR FURTHER INFORMATION CONTACT: If you have questions on this temporary deviation, call or email LT Allan Storm, Sector Jacksonville, Waterways Management Division, U.S. Coast Guard; telephone 904-714-7616, email Allan.H.Storm@uscg.mil.

SUPPLEMENTARY INFORMATION: The Canaveral Port Authority, with concurrence from the bridge owner, Florida Department of Transportation have requested the Coast Guard consider allowing the SR 401 Drawbridges across the Canaveral Barge Canal, Port Canaveral, Florida to not open to navigation from 11 a.m. to 2 p.m. on Saturdays and Sundays.

On October 23, 2017 the Coast Guard published a notice of proposed rulemaking entitled “Drawbridge Operation Regulation; Canaveral Barge Canal, Canaveral, FL in the Federal Register (82 FR 48940). Under that proposed rule, the bridges would remain in the closed-to-navigation position from 11 a.m. to 2 p.m. on Saturdays and Sundays. The existing regulation for the SR 401 Drawbridges, across Canaveral Barge Canal, mile 5.5 at Port Canaveral, FL is published in 33 CFR 117.273(b). The SR 401 Drawbridges provide a vertical clearance of 25 feet in the closed position at Mean High Water (MHW) and a horizontal clearance of 90 feet between fenders. The bridge logs from October 2017 indicate that, at most, approximately nine vessels may be affected by establishing this three hour bridge closure on Saturdays and Sundays. The majority of the opening requests were either at the beginning or end of this closure period; therefore, by adjusting their transits slightly there should be a negligible overall effect. This temporary deviation is effective from December 28, 2017 until January 31, 2018. The Coast Guard will continue to evaluate the impact to mariners navigating this area during the closure periods.

Vessels able to pass through the bridge in the closed position may do so at any time. The bridge will be able to open for emergencies and there is no immediate alternate route for vessels to pass through the bridge in closed position. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: December 5, 2017.
Barry Dragon,
Director, Bridge Branch, Seventh Coast Guard District.

[FR Doc. 2017-27969 Filed 12-27-17; 8:45 am]

BILLING CODE 9110-04-P